FEDERAL RESERVE SYSTEM

Proposed Agency Information Collection Activities; Comment Request

AGENCY: Board of Governors of the Federal Reserve System.

ACTION: Notice, request for comment.

SUMMARY: The Board of Governors of the Federal Reserve System (Board) invites comment on a proposal to implement the New Hire Information Collection (FR 27; OMB No. 7100-new).

DATES: Comments must be submitted on or before February 15, 2019.

ADDRESSES: You may submit comments, identified by FR 27 by any of the following methods:

• Agency Website: http://www.federalreserve.gov. Follow the instructions for submitting comments at http://www.federalreserve.gov/apps/foia/proposedregs.aspx.

• Email: regs.comments@federalreserve.gov. Include OMB number in the subject line of the message.

• Fax: (202) 452-3819 or (202) 452-3102.

• Mail: Ann E. Misback, Secretary, Board of Governors of the Federal Reserve System, 20th Street and Constitution Avenue NW, Washington, DC 20551.

All public comments are available from the Board's website at http://www.federalreserve.gov/apps/foia/proposedregs.aspx as submitted, unless modified for technical reasons. Accordingly, your comments will not be edited to remove any identifying or contact information. Public comments may also be viewed electronically or in paper form in Room 3515, 1801 K Street NW (between 18th and 19th Streets NW), Washington, DC 20006 between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the OMB Desk Officer—Shagufta Ahmed—Office of Information and Regulatory Affairs, Office of Management and Budget, New Executive Office Building, Room 10235, 725 17th Street NW, Washington, DC 20503, or by fax to (202) 395-6974.

FOR FURTHER INFORMATION CONTACT: A copy of the PRA OMB submission, including the proposed reporting form and instructions, supporting statement, and other documentation will be placed into OMB's public docket files, if approved. These documents will also be made available on the Board's public website at http://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

SUPPLEMENTARY INFORMATION: On June 15, 1984, the Office of Management and Budget (OMB) delegated to the Board authority under the Paperwork Reduction Act (PRA) to approve and assign OMB control numbers to collection of information requests and requirements conducted or sponsored by the Board. In exercising this delegated authority, the Board is directed to take every reasonable step to solicit comment. In determining whether to approve a collection of information, the Board will consider all comments received from the public and other agencies.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Implement the Following Information Collection

Report title: New Hire Information Collection.

Agency form number: FR 27.

OMB control number: 7100-new.

Frequency: As needed.

Respondents: Individuals.

Estimated number of respondents: Regular Hires: 312; Intern Hires: 122; Federal Transfers: 10.

Estimated average hours per response: Regular Hires: 1; Intern Hires: 0.75; Federal Transfers: 1.08.

Estimated annual burden hours: 414.3.

General description of report: This information collection would provide for the electronic collection of certain personnel information from new hires using a secure web-based portal, the “New Hire Portal,” before the first day of employment of a new hire. In this way, the Board is proposing to streamline the collection of personnel information from new hires so that much of the information previously collected in hardcopy format from new employees on their first day of employment would be submitted electronically by new hires through the secure web-based New Hire Portal before they become employees of the Board.

Currently, information is collected from new employees during the Board's New Employee Orientation (“NEO”) in order to complete certain employee on-boarding tasks, such as compensation, conduct security/background checks, set-up computer log-in profiles, establish applicable tax withholdings, determine benefits, identify dependents, and related purposes. Such personnel information currently is submitted by new employees on hardcopy forms during or after NEO. Accordingly, the information collected under the Board's current process is not subject to the Paperwork Reduction Act (“PRA”), 44 U.S.C. 3501 et seq., because information is only provided to the Board after the respondent has become a Board employee. However, under the proposal, such personnel information predominantly would be collected electronically from new hires through the New Hire Portal before the new hire becomes an employee of the Board. Therefore, the requirements of the PRA would apply to the information collection.

As part of the onboarding process for new hires, a Human Resources (“HR”) professional at the Board would identify the necessary information that must be collected from the new hire, which is dependent upon whether the person will be starting as an Intern or starting as a full- or part-time employee, including as a Governor or Board officer (hereinafter, “Regular Employee”), and whether the Regular Employee is transferring from another federal agency (“Federal Transfer”). The new hire would then be sent an email asking him or her to provide the personnel information, described below, through the New Hire Portal prior to their official start date.

Legal authorization and confidentiality: The information collected as part of the New Hire Information Collection is authorized pursuant to sections 10(3), 10(4), 11(l), and 11(q) of the Federal Reserve Act, which provides the Board broad authority over employment of staff and security of its building, as well as the authority to determine and prescribe the manner in which its obligations shall be incurred and its expenses allowed and paid (12 U.S.C. 243, 244, 248(l), and 248(q)). In addition, Executive Order 9397 (November 22, 1943) authorizes Federal agencies to use an individual's social security number to identify individuals in agency records.

Providing the information collected as part of the New Hire Information Collection is voluntary. However, if certain information requested as part of the New Hire Information Collection is not provided, then the Board cannot complete the hiring process.

Generally, information collected as part of the New Hire Information Collection will be kept confidential from the public under exemption 6 of the Freedom of Information Act (FOIA) to the extent that the disclosure of the information “would constitute a clearly unwarranted invasion of personal privacy” (5 U.S.C. 552(b)(6)). For example, the release of information such as the new hire's date of birth, home address, home telephone number, or social security numbers to the public would likely constitute a clearly unwarranted invasion of personal privacy and be kept confidential. However, the release of information such as the educational history of the new hire or the start date of employment would not likely constitute a clearly unwarranted invasion of personal privacy and may be disclosed under the FOIA.

Determinations regarding disclosure to third parties of any confidential portions of the information collection that are considered exempt under the FOIA will be made in accordance with the Privacy Act, 5 U.S.C. 552a(b). Relevant Privacy Act statements are provided when a respondent logs in to the portal and before the respondent is asked to provide any information. The Board may make disclosures in accordance with the Privacy Act's routine use disclosure provision, 5 U.S.C. 552a(a)(7) and (b)(3)), which permits the disclosure of a record for a purpose which is compatible with the purpose for which the record was collected. Such routine uses are listed in the specific systems of records notices, which apply to this information collection and which can be found in: (1) The System of Records Notice for BGFRS-1, FRB-Recruiting and Placement Records, located here: https://www.federalreserve.gov/files/BGFRS-1-recruiting-and-placement-records.pdf; (2) the System of Records Notice for BGFRS-4, FRB-General Personnel Records, located here: https://www.federalreserve.gov/files/BGFRS-4-general-personnel-records.pdf; (3) the System of Records Notice for BGFRS-7, FRB—Payroll and Leave Records, located here: https://www.federalreserve.gov/files/BGFRS-7-payroll-and-leave-records.pdf; (4) the System of Records Notice for BGFRS-24, FRB—EEO General Files, located here: https://www.federalreserve.gov/files/BGFRS-24-eeo-general-files.pdf; and/or (5) the System of Records Notice for BGFRS-34, FRB-ESS Staff Identification Card File, located here: https://www.federalreserve.gov/files/BGFRS-34-ess-staff-identification-card-file.pdf.

Board of Governors of the Federal Reserve System, December 12, 2018.
Michele Taylor Fennell,
Assistant Secretary of the Board.

[FR Doc. 2018-27226 Filed 12-14-18; 8:45 am]

BILLING CODE 6210-01-P